DEPARTMENT OF COMMERCE

National Oceanic and Atmospheric Administration

RIN 0648-XH012

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Law Enforcement Advisory Panel (AP).

DATES: The Law Enforcement AP meeting will take place May 23, 2019, from 1:30 p.m. to 5 p.m., and May 24, 2019, from 8:30 a.m. until 12 p.m.

ADDRESSES:

Meeting address: The meeting will be held at the Town and Country Inn, 2008 Savannah Highway, Charleston, SC 29407.

Council address: South Atlantic Fishery Management Council, 4055 Faber Place Drive, Suite 201, N. Charleston, SC 29406.

FOR FURTHER INFORMATION CONTACT: Kim Iverson, Public Information Officer, SAFMC; phone: (843) 571-4366 or toll free 866/SAFMC-10; fax: (843) 769-4520; email: kim.iverson@safmc.net.

SUPPLEMENTARY INFORMATION: The Law Enforcement AP meeting is open to the public and will be available via webinar as it occurs. Registration is required. Webinar registration information, a public comment form, and other meeting materials will be posted to the Council's website at: http://safmc.net/safmc-meetings/current-advisory-panel-meetings/ as it becomes available.

Agenda items for the Law Enforcement AP meeting include the following: A review and update on amendments to fishery management plans that are currently under development by the Council or undergoing Secretarial review; a review and discussion of draft Regulatory Amendment 29 to the Snapper Grouper Fishery Management Plan (FMP) addressing best fishing practices; priorities for Joint Enforcement Agreements; and an update on outreach efforts for the For-Hire Electronic Reporting Amendment. The AP will also review regulations on the harvest of dolphin onboard for-hire vessels in the Mid-Atlantic and New England regions, provide guidance on prohibition on retention of species in state waters when harvest in federal waters is closed for federally-permitted for-hire vessels, and discuss the requirement that heads and fins be intact for snapper grouper species.

The AP will also elect a new Chair and Vice-Chair. The AP will develop recommendations as necessary for consideration by the Council's Law Enforcement Committee.

Special Accommodations

These meetings are physically accessible to people with disabilities. Requests for auxiliary aids should be directed to the council office (see ADDRESSES) 3 days prior to the public hearings.

Note: The times and sequence specified in this agenda are subject to change.

Authority: 16 U.S.C. 1801 et seq.

Dated: May 1, 2019.
Tracey L. Thompson,
Acting Deputy Director, Office of Sustainable Fisheries, National Marine Fisheries Service.

[FR Doc. 2019-09189 Filed 5-3-19; 8:45 am]

BILLING CODE 3510-22-P